NATIONAL COMMISSION ON MILITARY, NATIONAL, AND PUBLIC SERVICE

[NCMNPS Docket No. 04-2019-01]

Notice of Public Hearings

AGENCY: National Commission on Military, National, and Public Service.

ACTION: Announcement of Commission public hearings.

SUMMARY: The National Commission on Military, National, and Public Service is publishing this notice to announce the following public hearings will take place.

DATES: The Commission will host fourteen public hearings in 2019. The breakdown is as follows:

• Two hearings on Universal Service on February 21, 2019, at American University, Washington College of Law Claudio Grossman Hall, 4300 Nebraska Ave. NW, Washington, DC 20016.

• Two hearings on National Service on March 28, 2019, at the Annenberg Presidential Conference Center, 1002 George Bush Drive West, College Station, TX 77843.

• Four hearings on Selective Service on April 24 and 25, 2019, at Gallaudet University Peikoff Alumni House, 800 Florida Ave. NE, Washington, DC 20002.

• Two hearings on Public Service on May 15, 2019, at the Partnership for Public Service, 1100 New York Ave. NW, Suite 200 East, Washington, DC 20005.

• Two hearings on Military Service on May 16, 2019, at the Partnership for Public Service, 1100 New York Ave. NW, Suite 200 East, Washington, DC 20005.

• Two hearings on Creating an Expectation of Service on June 20, 2019, at the Franklin D. Roosevelt Library, 4079 Albany Post Rd., Hyde Park, NY 12538.

ADDRESSES: As indicated above, the hearings will be held at a variety of locations. They will also be livestreamed. For additional details, please visit https://inspire2serve.gov/content/events.

FOR FURTHER INFORMATION CONTACT: The hearings are open to the public; however advance notice of attendance is requested. Registration for each hearing will be available three weeks prior to date of hearing. For more information, please visit the Commission's website at www.inspire2serve.gov or contact Cristina Flores, at (703) 571-3743 or by email at info@inspire2serve.gov.

SUPPLEMENTARY INFORMATION: The bipartisan, 11-member Commission was created by Congress in the National Defense Authorization Act for Fiscal Year 2017 to conduct a review of the military selective service process and to consider methods to increase participation in military, national, and public service in order to address national security and other public service needs of the nation. The Commission seeks to continue the national conversation on the value and importance of service as it develops recommendations for Congress, the President, and the American people. The Commission will issue those recommendations in a final report by March 2020. In 2019, the Commission will hold a series of public hearings that will include testimony from experts on various issues within the Commission's mandate. The Commission website will be updated to include background information and written testimony from hearing panelists. These public hearings will help inform and vet policy alternatives that the Commission may consider as it generates its final report. For each hearing, the Commission will release a staff memo two weeks in advance outlining the policy options under consideration. The Commission invites you to visit www.inspire2serve.gov to review and share your feedback on these memos. Time will be reserved at the end of each public hearing for audience members to provide comments directly to the Commissioners regarding the topic discussed in the public hearing. The event will be livestreamed and open to the press.

Dated: January 17, 2019.
Kent Abernathy,
Executive Director.

[FR Doc. 2019-00095 Filed 1-30-19; 8:45 am]

BILLING CODE 3610-YE-P